DEPARTMENT OF AGRICULTURE

Animal and Plant Health Inspection Service

[Docket No. APHIS-2023-0050]

Addition of Black Stem Rust-Resistant Barberry Plant Varieties to Regulated Articles List

AGENCY: Animal and Plant Health Inspection Service, USDA.

ACTION: Notice.

SUMMARY: We are proposing to add 32 varieties to the list of black stem rust-resistant barberry species and varieties. This change would allow for the interstate movement of these newly developed varieties without unnecessary restrictions.

DATES: We will consider all comments that we receive on or before May 20, 2024.

ADDRESSES: You may submit comments by either of the following methods:

• Federal eRulemaking Portal: Go to www.regulations.gov. Enter APHIS-2023-0050 in the Search field. Select the Documents tab, then select the Comment button in the list of documents.

• Postal Mail/Commercial Delivery: Send your comment to Docket No. APHIS-2023-0050, Regulatory Analysis and Development, PPD, APHIS, Station 3A-03.8, 4700 River Road, Unit 118, Riverdale, MD 20737-1238.

Any comments we receive on this docket may be viewed at regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Mr. Allen Proxmire, National Policy Manager, Black Stem Rust, Specialty Crops and Cotton Pests, Emergency and Domestic Programs, PPQ, APHIS, USDA, 4700 River Road, Unit 133, Riverdale, MD 20737-1231; allen.proxmire@usda.gov; (480) 392-8754.

SUPPLEMENTARY INFORMATION: Black stem rust is a destructive plant disease caused by a fungus (Puccinia graminis) that reduces the quality and yield of infected wheat, oat, barley, and rye crops. In addition to infecting small grains, the fungus lives on a variety of alternate host plants that are species of the genera Berberis, Mahoberberis, and Mahonia, known as barberry plants.

The regulations in “Subpart D—Black Stem Rust” (7 CFR 301.38 through 301.38-8, referred to below as the regulations), quarantine the conterminous 48 States and the District of Columbia for black stem rust, and govern the interstate movement of plants of the genera Berberis, Mahoberberis, and Mahonia, known as barberry plants.

Species and varieties of these plants are categorized as either rust-resistant or rust-susceptible. Rust-susceptible plants pose a risk of spreading black stem rust or of contributing to the development of new races of the rust, and therefore are prohibited from moving interstate into or through any protected area listed in accordance with § 301.38-3. Rust-resistant plants do not pose such risks, and therefore may be moved into or through protected areas subject to the requirements in the regulations.

In accordance with § 301.38-2(a), the Animal and Plant Health Inspection Service (APHIS) maintains a list of Berberis species and varieties it has found to be rust-resistant at www.aphis.usda.gov/aphis/ourfocus/planthealth/plant-pest-and-disease-programs/pests-and-diseases/barberry/ct_barberry.

Paragraph (c)(1) of § 301.38-2 provides that if the Administrator determines that an article not already listed is resistant to black stem rust, APHIS will publish a notice in the Federal Register proposing to add the article to the list of rust-resistant articles for black stem rust and request public comment. Following the close of the comment period, APHIS will review all comments received and will make a final determination regarding the designation that will be published in a second notice in the Federal Register.

Recent testing ¹ by the Agricultural Research Service (ARS) of the United States Department of Agriculture (USDA) has found the following 32 varieties of Berberis thunbergii (Japanese barberry) to be resistant to the fungus (Puccinia graminis) that causes black stem rust:

¹ Testing is performed as follows: In a greenhouse, the suspect plant, or test subject, is placed under a screen with a control plant, i.e., a known rust-susceptible variety of Berberis. Infected wheat stems, a primary host of black stem rust, are placed on top of the screen. The plants are moistened and maintained in 100 percent humidity, causing the spores to swell and fall on the plants lying under the screen. The plants are then observed for 7 days at 20-80 percent relative humidity. This test procedure is repeated 12 times. If in all 12 tests, the rust-susceptible plant shows signs of infection after 7 days and the test plants do not, USDA will declare the test plant variety rust-resistant. The tests must be performed on new growth, just as the leaves are unfolding.

• Berberis thunbergii `Citral'

• Berberis thunbergii `Coral Spice'

• Berberis thunbergii `Crimson Cutie'

• Berberis thunbergii `James Blonde'

• Berberis thunbergii `Lemon Cutie®'

• Berberis thunbergii `Lemon Glow®'

• Berberis thunbergii `Mr. Green Genes™'

• Berberis thunbergii `Purple Plume'

• Berberis thunbergii `NCBT3 Himalayas'

• Berberis thunbergii `NCBT4'

• Berberis thunbergii `NCBT8 Pyrenees'

• Berberis thunbergii `NCBT9'

• Berberis thunbergii `NCBT10 Pichu'

• Berberis thunbergii `NCBT11 Rockies'

• Berberis thunbergii `NCBT12 Lanturn'

• Berberis thunbergii `NCBT13 Crobat'

• Berberis thunbergii `NCBT14'

• Berberis thunbergii `Schu20022'

• Berberis thunbergii `SMNBTAA Admir Askewpin 19'

• Berberis thunbergii `SMNBTAB Admir Borakis 19'

• Berberis thunbergii `SMNBTAC Admir Clopek 19'

• Berberis thunbergii `SMNBTAJ Admir Jaramy 19'

• Berberis thunbergii `SMNBTAK Admir Kidjip 19'

• Berberis thunbergii `SMNBTSSR Sunjoy Safberuprt Ropek 19'

• Berberis thunbergii x media `NCBX9 Chinchou'

• Berberis thunbergii x B. sieboldii `NCBX10'

• Berberis thunbergii x B. sieboldii `NCBX11'

• Berberis thunbergii x B. sieboldii `NCBX12'

• Berberis thunbergii x B. sieboldii `NCBX13'

• Berberis thunbergii x B. sieboldii `NCBX14'

• Berberis thunbergii x B. sieboldii `NCBX15'

• Berberis thunbergii x B. sieboldii `NCBX16'

After reviewing any comments we receive, we will announce our decision regarding the designation of these articles as rust-resistant in a second notice. If the Administrator's determination remains unchanged, we will designate the articles as rust-resistant and add them to the list of rust-resistant regulated articles for black stem rust at www.aphis.usda.gov/aphis/ourfocus/planthealth/plant-pest-and-disease-programs/pests-and-diseases/barberry/ct_barberry.

Authority: 7 U.S.C. 7701-7772 and 7781-7786; 7 CFR 2.22, 2.80, and 371.3.

Section 301.75-15 issued under sec. 204, Title II, Public Law 106-113, 113 Stat. 1501A-293; sections 301.75-15 and 301.75-16 issued under sec. 203, Title II, Public Law 106-224, 114 Stat. 400 (7 U.S.C. 1421 note).

Done in Washington, DC, this 12th day of March 2024.
Donna Lalli,
Acting Administrator, Animal and Plant Health Inspection Service.

[FR Doc. 2024-05807 Filed 3-19-24; 8:45 am]

BILLING CODE 3410-34-P